DEPARTMENT OF JUSTICE

Office of Juvenile Justice and Delinquency Prevention

[OJP(OJJDP)-1367]

Strengthening Abuse and Neglect Courts in America: Management Information Systems Project

AGENCY: Office of Juvenile Justice and Delinquency Prevention, Office of Justice Programs, Justice.

ACTION: Notice of solicitation.

SUMMARY: The Office of Juvenile Justice and Delinquency Prevention (OJJDP) is requesting applications for the Strengthening Abuse and Neglect Courts in America: Management Information Systems (SANCA MIS) project. The project will help abuse and neglect courts develop, implement, and maintain automated information systems that enhance court compliance with the Adoption and Safe Families Act of 1997, by automating national functional data standards and tracking national performance measures.

DATES: Applicants must begin their online applications by April 25, 2003. Applications must be completed online, and all required letters, signed by the appropriate authorities, must be received in one fax transmission by May 27, 2003. See SUPPLEMENTARY INFORMATION below for information on electronic access and specific information on who must submit letters.

FOR FURTHER INFORMATION CONTACT: Kristen Kracke, Program Manager, Child Protection Division, Office of Juvenile Justice and Delinquency Prevention, at 202-616-3649. (This is not a toll-free number.)

SUPPLEMENTARY INFORMATION: How to Apply: The Office of Justice Programs (OJP) requires that you submit your application for funding electronically through the OJP Grants Management System (GMS). Access through the Internet to this online application system will expedite and streamline the submission, receipt, review, and processing of your request for funding.

To learn how to begin your online application process, go to www.ojp.usdoj.gov/fundopps.htm.

All applicants must fax the following letters:

• A letter of designation as the State Court Improvement Project (CIP) applicant, signed by the State CIP coordinator, or a letter of support from the State CIP coordinator, whichever letter applies, as described under the eligibility criteria.

• A letter identifying the applicant's “Eligibility Designation.”

• A signed Statement of Collaborative Application.

All three letters must be faxed to 202-354-4147 by May 27, 2003. All three required letters must be signed by the appropriate parties and must have the GMS-assigned application number located on the subject line.

Purpose

The purpose of the Strengthening Abuse and Neglect Courts in America: Management Information Systems (SANCA MIS) project is to develop, implement, and maintain automated information systems that enable the Nation's abuse and neglect courts to effectively and efficiently meet the intended goals of the Adoption and Safe Families Act (ASFA) of 1997 (Pub. L. 105-89), which seeks to protect children's safety, permanency, and well-being.

Authority: 42 U.S.C. 670 (Strengthening Abuse and Neglect Courts Act).

Background

When ASFA was signed into law in November 1997, it was widely hailed as a milestone in the campaign to improve child welfare practice. Since then, this legislation has substantially influenced courts, child welfare agencies, and others who work to improve the lives of abused and neglected children. ASFA mandates that children's health and safety be considered paramount when courts make decisions about children's welfare. The Act also places important new limitations on the concept of reasonable efforts to return victims of child abuse and neglect to their families. Under the Act, a permanent plan must be established for foster children within 12 months of the date they enter care. In addition, States must seek the termination of parental rights (TPR) of any parent whose child has been in foster care for 15 of the preceding 22 months, except in specified circumstances.

Although they are considered by most as an important step toward improving outcomes for abused and neglected children, these reforms have significantly increased the demands on child welfare agencies and, in particular, the dependency courts that oversee them. ASFA requires new, accelerated timelines for processing abuse and neglect cases. As a result, courts must provide a greater degree of judicial oversight at a time when many are already overburdened and facing significant case backlogs. As noted in a recent study on judicial workload, ASFA has both “increased judicial responsibilities * * * in child abuse and neglect cases and decreased the acceptable period of time within which a case can be resolved” (Dobbin and Gatowski, 2001). New regulations governing mandatory TPR filings have also contributed to demands on court time. The U.S. Department of Health and Human Services (HHS) estimates that in March 1998 as many as one-third of foster children had been in foster care long enough to mandate the filing of TPR proceedings, which typically take several days to conduct (U.S. General Accounting Office, 1999).

ASFA's unprecedented focus on results and accountability has also increased demands made on courts and child welfare agencies. Another of the Act's key provisions requires that Federal outcome measures be developed to assess how well States meet ASFA goals and, subsequently, to inform a performance-based incentive system. These outcome measures, which are used in the new Child and Family Services Reviews, were published by HHS in the Federal Register (Vol. 64, No. 161) on August 20, 1999. Careful case tracking and information management is, therefore, critical for State child welfare systems. Early findings from the first 17 Child and Family Services Reviews provide preliminary evidence of the crucial role that courts play in ensuring positive outcomes for children and providing case tracking to meet ASFA guidelines. Specifically, these findings suggest that court oversight during the case review process is needed to ensure that the needs of children and families are accurately assessed and that services are mobilized to address those needs. Review findings also highlight the importance of collaborative relationships between the courts and child welfare agencies. Such relationships foster compliance not only with specific ASFA provisions but also with ASFA's intent to provide a permanent place for children who must be removed from their homes.

Unfortunately, research suggests that the systems used by dependency courts to manage information—particularly, computerized MISs—are largely undeveloped. In a recent study conducted by the National Council of Juvenile and Family Court Judges (NCJFCJ) (Dobbin and Gatowski, 1998), the vast majority of court personnel described their court's MIS as “very problematic.” One court improvement specialist noted that “The primary reason for untimely outcomes is bad data. * * * We can't spot check to identify problems, and we don't know how many cases are out of timeframes.” In light of this identified need, OJJDP has supported several efforts that improve juvenile court functions. In 2001, OJJDP provided funds to help the National Center for State Courts (NCSC) develop and publish functional standards for juvenile court MISs. The product of this effort—Integrated Juvenile Justice Case Management Standards—provides juvenile courts with detailed guidance regarding the functions that should be included in their MISs. The core functional standards can be viewed online at www.ncsc.dni.us/NCSC/CTP/HTDocs/Standards.htm. This effort also identifies design considerations that will improve information sharing with noncourt partners (e.g., child welfare agencies, schools, social services organizations). When completed, these design considerations will help courts communicate with key partner agencies, thereby enhancing the management of juvenile court cases.

In addition, important efforts to identify performance measures specific to the dependency court system are now underway. CIP, supported by the David and Lucile Packard Foundation, has provided funding to the American Bar Association (ABA), NCSC, and NCJFCJ to identify standardized outcome measures for court performance. Such efforts will help track the achievements of courts and child welfare agencies (Flango, 2001).

Although this significant work continues to advance and inform State and local efforts, without funding to increase capacity or improve MIS infrastructure, many courts have found it difficult to meet the new ASFA requirements. In recognition of this need, legislators passed the Strengthening Abuse and Neglect Courts Act (the Act) (Pub. L. 106-314) in October 2000. This law authorizes an appropriation of $25 million, to be administered by the Office of Juvenile Justice and Delinquency Prevention (OJJDP), to help courts meet ASFA requirements. However, no funds were appropriated. In fiscal year 2002, Congress earmarked $2 million of OJJDP's appropriation to initiate the implementation of the Act. This funding provides for the development of the SANCA MIS project outlined in this solicitation.

Goal

The goal of the SANCA MIS project is to improve the efficiency and effectiveness of abuse and neglect courts nationwide and to increase their ability to meet ASFA requirements.

Objectives

The SANCA MIS project seeks to develop, implement, and maintain MIS improvements by doing the following:

• Implementing national standards to measure the performance of courts responsible for processing child abuse and neglect cases.

• Implementing national functional standards for court automation.

• Establishing key data elements that address the above performance measures and functional standards as they relate to the pilot courts.

• Developing MIS or MIS enhancements that incorporate the above objectives.

• Coordinating the automated data collection and case tracking systems of child welfare and other relevant agencies, courts, or court components (e.g., domestic violence courts).

• Providing courts with timely reports regarding the progress that is being made to improve compliance with ASFA requirements and the processing of child abuse and neglect cases.

Performance Measures

To ensure compliance with the Government Performance and Results Act, Pub. L. 103-62, this solicitation notifies applicants that OJP's performance under this solicitation will be measured by the following performance measure: The number of MIS systems enhanced or developed to achieve safety, permanency, and well-being, for abused and neglected children. Award recipients will be required to collect and report data in support of this measure. Specifically, award recipients will provide the following data on court improvement: (1) The number of new national performance measures tracked, (2) the number of new national functional data standards automated, (3) the number of new data elements collected, (4) the number of new reports generated, and (5) the number of court improvement strategies implemented.

Assistance in obtaining this information will facilitate future program planning and will allow OJP to provide Congress with measurable results of federally funded programs.

Program Strategy

OJJDP will select up to six courts to receive funding through cooperative agreements for a 24-month demonstration period.

Project Phases

Establishing the SANCA MIS project requires a multiphase, collaborative process with national partners and technical advisors. The project will be conducted in three phases.

• Phase I: Planning and Design, approximately 12 months.

• Phase II: Pilot Implementation, approximately 6 months.

• Phase III: Full Implementation and Sustainability, approximately 6 months.

Phase I will involve hiring and/or contracting program and technical staff as needed; engaging a local collaborative to develop the project; surveying and analyzing user needs in the court and existing system capabilities and capacity; collaborating with national partners, technical advisors, and other selected pilot sites to identify and develop the core performance measures and functional standards; tailoring and customizing the national measures and standards to match the needs of the pilot jurisdiction; developing the implementation plan and design specifications; and developing software.

Phase II will involve implementing, entering data for, and testing the design in a pilot stage, followed by retooling and generating initial reports.

Phase III will involve implementing the system for all users, establishing regular maintenance procedures, generating reports at full scale, and identifying and establishing the ongoing court improvements implemented in response to the reports.

All phases will be established in the cooperative agreement as benchmarks, and funding will be directly related to those benchmarks. Applicants are asked to estimate their budget needs for each phase. Funding for subsequent phases will be contingent on the completion of the benchmarks for the previous phase.

Project Design

The SANCA MIS project will establish a set of pilot sites with both a high capacity for collaboration and court improvement and a need for support in building information systems. These sites will develop and enhance MIS and case-tracking systems for proceedings conducted by, or under the supervision of, abuse and neglect courts. The development and enhancement of these systems should substantially increase courts' ability to track cases, identify and eliminate existing backlogs, process abuse and neglect cases in a timely manner, and move children into safe and stable families. Measures for tracking court performance, particularly in regard to the provisions and requirements of ASFA, are a required component of MIS development and enhancement.

The development and enhancement of MISs will be coordinated with work currently in progress at the national level. Selected pilot sites will be required to partner with the national team to (1) incorporate the national performance measures established through CIP by NCSC, NCJFCJ, and ABA, and (2) incorporate the national functional standards developed by NCSC. Data elements for both the measures and the functional standards will be identified by national technical advisors and partners with input from and in consultation with the SANCA MIS pilot site. The project design requires that the national team and the pilot sites work together to develop, test, and implement the national performance measures and functional standards tailored to each pilot court. The SANCA MIS project will pilot the implementation of these tailored measures and standards to demonstrate their effectiveness. These pilot efforts will inform future court developments and help to transfer the capabilities of MIS tracking and measurement to other courts on a broad scale. Applicants must be aware that these national measures and functional standards are preliminary and will be finalized after the grant is awarded; therefore, the challenge to successful applicants will be to develop a plan for planning that is flexible enough to incorporate this developmental national work in Phase I. Successful applicants will contribute to this national development, receive technical support and guidance during the pilot, and test the work.

Copies of the draft performance measures established by CIP and information on the functional standards can be obtained from the Juvenile Justice Clearinghouse (JJC) and NCSC (both are listed in the Contacts section of this solicitation). Examples of the draft performance measures include the following:

• The percentage of children who are the subject of additional allegations of maltreatment while under court jurisdiction.

• The percentage of children who are the subject of additional allegations of maltreatment within 12 months after court jurisdiction has ended.

• The percentage of children who are placed in permanent homes and court jurisdiction is ended within 6, 16, 18, and 24 months from removal.

• The percentage of cases in which both parents receive written service of process within the required time standards or where notice of hearing has been waived by parties.

• The percentage of cases that are adjudicated within 30, 60, and 90 days after the filing of the dependency petition.

The functional standards for managing juvenile cases are intended to help court managers, analysts, designers, and software developers identify the functions of new or enhanced systems during the system definition stage of MIS development. Although the standards identify which tasks the system should perform, the system designer determines how those functions should be accomplished. Courts nationwide can use these standards to develop in-house systems and solicitations for vendor-supplied systems. Each court should customize the standards with appropriate terminology and specifications that are based on local and State procedures, policies, and customs. The standards include 16 function categories, each of which identifies a full range of functions. Examples of these functions are provided below.

• Case initiation and indexing functions (e.g., assign referral numbers and person identifiers; establish links between each juvenile and his or her family).

• Docketing and related recordkeeping functions (e.g., create docket entry and update case information; maintain history of attorney assignments).

• Scheduling functions (e.g., identify, display, and suggest resolutions to scheduling conflicts; output schedules upon user request).

• Document generation and processing functions (e.g., generate notices to notify parties that petitions and other documents have been received/accepted; produce electronic forms and other documents).

• Calendaring functions (e.g., produce calendars individually—by judge, for example—or in batches; distribute calendars electronically).

• Hearings functions (e.g., provide for minute entry; create and print orders and supporting documents resulting from hearings on line in courtroom).

In addition to using automation to improve court efficiency and track performance, efforts to automate court models and improve strategies for caseflow procedures, case management, representation of children, interagency interfaces, intercourt interface (e.g., dependency and criminal courts), and “best practice” standards can be incorporated, as appropriate, into selected pilot courts.

Grantees will be required to coordinate with child welfare agencies and, when possible and appropriate, with child welfare collection systems, including the statewide automated child welfare information system (SACWIS) and the adoption and foster care analysis and reporting system (AFCARS). Coordinating with other key courts involved in child abuse and neglect cases (such as domestic violence cases) is also encouraged. However, coordination, consultation, and systems integration with the related State court is required, particularly with regard to the State court improvement plan funded under section 13712 of the Omnibus Budget Reconciliation Act of 1993 (42 U.S.C. 670 note).

Selected pilot courts will be required to establish a collaborative committee to plan and implement the project. The collaborative must include the presiding judge or judges, key court staff (e.g., court administrators, clerks), court MIS staff (including contractors and software developers), representatives from the child welfare agency, prosecuting attorney(s), guardians ad litem and attorneys/advocates for children (including CASAs, if appropriate), and other court and community organizations and individuals involved in efforts to improve the manner in which courts handle child welfare cases.

Selected sites will be required to identify key staff, including both lead program staff for coordinating the overall project within the court and its partners and technology staff. Applicants may contract out technology services; however, awardees will be required to establish and maintain control of all project activities (including software development, system implementation, training activities, staff supervision, and report generation). In addition, selected pilot sites must retain the ability and capacity to generate reports on their own, without relying on independent contractors.

Selected pilot courts will be required to develop a plan for MIS development and enhancement efforts. Following the grant award, OJJDP and the national technical advisors for the SANCA MIS project will issue guidance regarding the requirements of the plan. These plans must be reviewed and approved by OJJDP; approval will be based in part on advice and recommendations submitted by the national technical advisors. Once approved, selected pilot sites will be authorized to move to the design phase and then to the pilot implementation phase, with access to corresponding funds. Plans must be developed with both the core partners and stakeholders described above (and identified in the application) and with program and technology staff. Selected pilot courts will be expected to adopt the national performance measures and functional standards and to customize them according to the jurisdiction in which they will be used. The customized measures and standards should then be transferred directly into plans for systems development. Plans also should be based upon and include an assessment of current infrastructure; data and data needs specific to the jurisdiction; issues related to confidentiality, case management, and communications and data sharing across court dockets; and compatibility with, and data needs similar to those of, other courts and the child welfare agency.

Eligibility Requirements

Applications are invited only from State and local courts responsible for processing child abuse and neglect cases in jurisdictions where the following projects are being implemented: HHS's Court Improvement Program (CIP), OJJDP's Model Dependency Courts, OJJDP's Safe Start Initiative, and OJJDP's Safe Kids/Safe Streets Initiative. In all cases, the child abuse and neglect court must be the lead agency for the SANCA MIS project and must apply on behalf of and with full support from the collaborative partners from the projects listed above.

If a court applies through one of the OJJDP eligible projects, the application must be coordinated and consistent with the State CIP strategic plan. These OJJDP eligible projects are required to provide a letter of support from the State CIP coordinator ensuring that the application is consistent with the State CIP strategic plan and the State CIP efforts. This letter must be provided via fax by the application deadline.

For the HHS CIP, courts that receive a grant from the State CIP are eligible to apply; however, only one court per State may apply in this HHS CIP category. Any eligible CIP court interested in applying for the SANCA MIS project must, therefore, first contact their State CIP coordinator to indicate their interest. If more than one CIP-eligible court expresses interest, the State CIP coordinator will then need to make a determination regarding which court should apply as the designated CIP applicant for that State. The State CIP coordinator must fax a letter clearly identifying the application by the assigned GMS number and stating that it is being submitted as the one State-designated CIP applicant. This letter is to be faxed as part of the application deadline.

Note: In cases where the above projects overlap in a single jurisdiction, the court must apply collaboratively with all the projects identified above. OJJDP will accept only one application from each of the four projects in a specific jurisdiction. Applicants and jurisdictions that fail to comply with the eligibility requirements by submitting more than one application may disqualify all applicants from that State or locality. Exception: This requirement will not preclude, however, the State CIP coordinator from offering one State-designated CIP application in addition to the collaborative application. If, for example, a local jurisdiction has a CIP grant, a Safe Kids/Safe Streets project, and a Model Dependency Court project, the local court is required to apply collaboratively with each of the projects or grantees. The State CIP coordinator would be required to provide a letter of support for this collaborative application and would still be able to submit one other State-designated application.

Applicants must fax a letter clearly marked with a subject line entitled “Eligibility Designation for application number ___” and identify the application as eligible under one of the following areas, as determined by the primary lead program or project: (1) HHS's Court Improvement Program, (2) Model Dependency Court, (3) Safe Start Initiative, or (4) Safe Kids/Safe Streets Project. If the application is being submitted in collaboration with other projects, the applicant must indicate the Eligibility Designation for application number __ as follows: “Eligibility Designation: ____ in collaboration with ____ and ____” filling in one or more of the invited projects identified above as eligible. This letter is to be faxed as part of the application deadline.

All applicants must submit a Statement of Collaborative Application via fax, following the same instructions as referenced above. It is imperative that the application be mutually submitted by all of the stakeholders needed to develop this project. Applicants must submit a statement signed by each participating member stating that they are substantially involved in the development of the plan and are committed to participating in the collaborative pilot project. The statement must contain each collaborative member's original signature, typed/printed name, address, telephone number, and affiliation (title and agency or role [in the case of a parent or community representative]). The statement should demonstrate a clear commitment to participate in the national development and pilot implementation of the performance measures and functional standards.

Applicants must identify all the eligible, invited projects in their jurisdiction and apply in collaboration with these projects; therefore, a special section in the Statement of Collaborative Application must be set aside to identify these projects and to affirm that the application has been developed in coordination and collaboration with them. The lead agency for each eligible, invited project must sign the statement. For instance, if a jurisdiction contains both a Model Dependency Court project and a Safe Start Initiative, the projects must submit an application collaboratively, and the lead agencies of each must sign a statement of joint application.

Finally, applicants must also demonstrate a high capacity for collaboration and court improvement while also demonstrating a strong need for support to develop MIS capabilities.

Applicants must comply with all the requirements set forth in this solicitation to be eligible for competition under this award. Absence of the required faxed letters, for instance, may result in disqualification.

Selection Criteria

All applications will be evaluated and rated by a peer review panel according to the selection criteria outlined below. Applicants must use these selection criteria headings for their program narrative and must present information in this order. Selection criteria will be used to assess each applicant's responsiveness to application requirements, compliance with eligibility requirements, organizational capability, and thoroughness and innovation in response to strategic issues related to project implementation. Staff and peer reviewer recommendations are advisory only; the final award decision will be made by the OJJDP Administrator, who will consider geographic diversity and other factors.

Problem(s) To Be Addressed (10 Points)

Applicants must provide a preliminary but detailed analysis of the court and organize and provide the information in the following manner:

Section One: Jurisdictional Context and Organizational Structure. Applicants must provide a detailed description of the jurisdiction of the court, the organizational structure of the court, and the court's case-level role in working—both formally and informally—with the child welfare agency. Applicants also must describe how the court is administered with respect to judicial assignments, rotation policies, docket setting, and case assignments.

Section Two: Data Automation and Information Management. Applicants should describe the current level of data automation, information management, infrastructure, and capacity in terms of the jurisdiction's ability to test the national performance measures and functional standards. Applicants should provide a detailed description of the current infrastructure (both human and technological) for data collection, case tracking, and performance measurement, if applicable. Applicants also should describe State-level automation systems and their requirements and system compatibility and current levels of coordination. In addition, applicants should discuss the status of coordination and system compatibility with SACWIS and the child welfare agency.

In addition, applicants should describe what is currently known about cases under their jurisdiction regarding case levels, flow, tracking, and outcomes; case planning and management; and the court and child welfare agency's compliance with ASFA requirements.

This section should demonstrate an understanding of current MISs and a need for improved MIS capability.

Applicants may provide supplemental evidence, documentation, or sample illustrations of information conveyed in this section in the appendix.

Goals and Objectives (10 Points)

Applicants must outline how the SANCA MIS project will improve their court. Applicants should describe how the involved agencies and systems will operate, in terms of improving outcomes for children consistent with ASFA and in terms of improving court function, after implementing the SANCA MIS pilot. Applicants must provide a clear discussion of the proposed project goals and objectives as they logically relate to the SANCA MIS pilot and the project phases. These goals and objectives must be quantifiable, measurable, and attainable within the timeframe of the project (24 months).

Project Design (20 Points): The Plan for Planning

Applicants must describe their strategy for the SANCA MIS project through each of the three phases outlined above. Given the phased approach and the fact that Phase I requires developing a detailed MIS design and implementation plan, applicants should carefully and specifically outline only the process that the pilot court will use to manage the collaborative and to plan the program's overall design. Because the actual planning will occur after the award in coordination with national support and guidance, applicants are instructed to submit a plan for planning.

The strategy should outline who will be involved at the collaborative, staffing, and MIS-user levels. The strategy should discuss how often the planners will meet and what tasks will be completed by when and by whom. This detailed workplan for the planning phase should include the steps for hiring or contracting a designer, steps for customizing the national measures and standards, and a clear commitment to partnering with the national team. (Specific guidance about the national cross-site partnership will be provided after selection and grant award.) Applicants must also outline specific tasks and a timeline chart for completing Phases II and III, as described above, with responsible staff/collaborative members identified.

Management and Organizational Capability (40 Points)

Applicants should use this section to describe a sound leadership design and an administration and operating structure that is capable of carrying out the proposed initiative. Applicants should demonstrate the following: Organizational and collaborative readiness, an effective team management structure involving the lead court and the collaborative partners, and a strong organizational capability that is commensurate with the scope of work outlined in this solicitation. These elements and their share of the 40 points available under this criterion are discussed below.

Section One: Organizational and Collaborative Readiness (15 Points). Applicants should provide a detailed description of how the court and its partners are ready to engage in the full scope of this project. Applicants should demonstrate a readiness to implement court improvement strategies based on data from automated reports and measurements, which will be generated through the project. In addition, applicants must (1) describe how the proposed vision and project design will build on and complement current collaborative planning processes to achieve the project's objectives; (2) discuss the court and its partners' history of collaboration and planning; (3) include a description of participants, major milestones, and the nature and process of the collaboration; (4) clarify what has been done, what is in process, and what remains to be done; and (5) demonstrate the existence, viability, and accomplishments to date of multidisciplinary arrangements whereby various courts and agencies in a jurisdiction are working cooperatively or collaboratively to improve the lives of children and families, especially those arrangements involving child abuse and neglect and domestic violence.

Applicants should also demonstrate evidence of a climate favorable to children and families by listing current court and agency policies, legislation, cross-agency/cross-court protocols, and interagency agreements that aid collaboration in regard to child welfare issues and cases. Applicants should provide examples of policies or legislation in the appendix.

Section Two: Management (15 Points). Applicants should outline a proposed staffing structure and management plan that includes at least one high-level, experienced lead coordinator. Key technology staff and data specialists should also be identified. Applicants should identify roles and responsibilities for all staff and describe the core management team. In addition, the capabilities and experience of all staff and consultants who will participate in the management team or play lead roles in the effort should be included. Applicants should (1) provide résumés of key personnel and include their job descriptions in the appendix, (2) indicate the percentage of time that each named staff person or consultant will devote to the project, (3) describe the supervision lines and lines of authority, and (4) describe the management structure and practices that will be used to evaluate the staff, take corrective action when needed, and ensure the success of the program.

Section Three: Organizational Capability (10 Points). Applicants should identify members of the collaborative's key leadership and describe their respective roles and responsibilities. Key leadership must include, at a minimum, the presiding judge or judges. (See the Project Design section above for specific membership requirements.) Court administrators also should play a key leadership role. Applicants must have demonstrated expertise in the organizational capabilities necessary to oversee a project of this size and scope. In particular, applicants should provide evidence of specific and detailed experience in leading collaborative and court improvement efforts. Applicants also must clearly demonstrate a commitment to participating collaboratively with OJJDP, the national partners and technical advisors, and other relevant partners in the completion, tailoring, and testing of the yet-to-be finalized national performance measures and functional standards. Furthermore, applicants should demonstrate a willingness and ability to build capacity beyond their own jurisdiction and to transfer knowledge to other courts and related partner agencies.

Budget (10 Points)

Applicants must provide a detailed budget and supporting budget narrative that are complete, detailed, reasonable, allowable, and cost effective in relation to the activities to be performed. The budget narrative should indicate the extent to which resources have been committed for the 24 months of the budget and project period. Applicants may apply for up to $200,000, depending on need and current infrastructure. Budgets must be reasonable and consistent with the infrastructure and project vision described in this solicitation. (Please note the Matching or Cost-Sharing Requirement section, which appears below.)

Additionally, applicants should provide a breakdown of their budgets by phase. Access to and use of funds available at each of the three phases will be contingent on the successful completion of the identified deliverables for each phase (as indicated above). This contingency will ensure that funding is available for all aspects of project implementation and completion.

Appendix (10 Points)

To help reviewers gauge the likelihood of awardee success, applicants must submit the following appendixes as evidence of their readiness and potential.

Applicants are encouraged to submit relevant materials in the appendixes described below:

Appendix A: State of the Court. Applicants may submit materials as evidence to support the State of the Court section of the application.

Appendix B: Evidence of Organizational and Collaborative Capability. Applicants may submit materials demonstrating their capacity to meet the scope of this project—not only from an information systems perspective but from a collaborative, court improvement perspective. Capacity should be demonstrated internally (within the court), across other relevant courts, and with other agencies. Evidence of improvement strategies implemented within and across agencies and courts will demonstrate the strongest support for collaborative efforts.

Applicants must document the existence of a climate favorable to children and families by listing current court and agency policies, legislation, cross-agency/cross-court protocols, and interagency agreements that aid collaboration in regard to child welfare issues and cases. Applicants may provide a bibliography that includes effective date(s) and relevant pages.

Appendix C: Key Staff and Consultant Résumés. Applicants must include résumés and job descriptions for the key staff and consultants named in the Management and Organizational Capability section of the application.

Format

The narrative portion of the application (excluding forms, assurances, and the appendix) must not exceed 20 pages, double-spaced, and must be typed in a standard 12-point font. The double-spacing requirement applies to all parts of the program narrative, including any lists, tables, bulleted items, or quotations. These guidelines are necessary to maintain fair and uniform standards among all applicants. If the narrative does not conform to these standards or any other standards outlined in this solicitation, OJJDP may deem the application ineligible for consideration.

Award Period

The SANCA MIS project will be funded in the form of a cooperative agreement for a 24-month project and budget period.

Award Amount

Applicants may apply for a one-time award of up to $200,000 for the 24-month project and budget period.

Matching or Cost-Sharing Requirement

The Federal law authorizing this project stipulates a cost-sharing requirement: Local and State courts must spend $1 for every $3 spent in Federal funds. Therefore, applicants must provide at least 25 percent of the total approved cost of the project. The total approved cost is the sum of the Federal share and the non-Federal share. For example, a project requesting $200,000 per budget period must include a match of at least $67,000 per budget period. The non-Federal share may be a cash or inkind contribution. If approved for funding, grantees will be held accountable for the commitment of non-Federal resources. Failure to provide the required amount will result in a disallowance of unmatched Federal funds.

Catalog of Federal Domestic Assistance (CFDA) Number

For this program, the CFDA number, which is required on Standard Form 424, Application for Federal Assistance, is 16.542. This form is included in the OJJDP Application Kit, which can be obtained by calling JJC at 800-638-8736 or by sending an e-mail request to puborder@ncjrs.org. The Application Kit is also available online at www.ncjrs.org/pdffiles1/ojjdp/s1000480.pdf.

Coordination of Federal Efforts

To encourage better coordination among Federal agencies in addressing State and local needs, DOJ is requesting that applicants provide information on the following: (1) Active Federal grant award(s) supporting this or related efforts, including awards from DOJ; (2) any pending application(s) for Federal funds for this or related efforts; and (3) plans for coordinating any funds described in items (1) or (2) with the funding sought by this application. For each Federal award, applicants must include the program or project title, the Federal grantor agency, the amount of the award, and a brief description of its purpose.

“Related efforts” is defined for these purposes as one of the following:

• Efforts for the same purpose (i.e., the proposed award would supplement, expand, complement, or continue activities funded with other Federal grants).

• Another phase or component of the same program or project.

• Services of some kind (e.g., technical assistance, research, or evaluation) for the program or project described in the application.

Contacts

The following organizations may provide resources:

American Bar Association Center on Children and the Law: 202-662-1720; www.abanet.org/child.

Juvenile Justice Clearinghouse: 800-638-8736; www.ojjdp.ncjrs.org.

National Center for State Courts: 800-616-6109; www.ncsconline.org.

National Clearinghouse on Child Abuse and Neglect: 800-394-3366; www.calib.com/nccanch.

National Council for Juvenile and Family Court Judges: 775-327-5300; www.pppncjfcj.org.

U.S. Department of Health and Human Services, The Administration for Children and Families: www.acf.dhhs.gov.

References

Dobbin, S.A., and Gatowski, S.I. 2001. Judicial Workload Estimates: Redefining the Concept of Judicial Work. Technical Assistance Bulletin. Reno, NV: National Council of Juvenile and Family Court Judges.

Dobbin, S.A., and Gatowski, S.I. 1998. Information Management: A Critical Component of Good Practice in Child Abuse and Neglect Cases. Technical Assistance Bulletin. Reno, NV: National Council of Juvenile and Family Court Judges.

Flango, V.E. 2001. Measuring progress in improving court processing of child abuse and neglect cases. Family Court Review 39(2):158-169.

U.S. General Accounting Office. 1999. Juvenile Courts: Reforms Aim To Better Serve Maltreated Children. Washington, DC: U.S. General Accounting Office.

Dated: March 20, 2003.
William L. Woodruff,
Deputy Administrator, Office of Juvenile Justice and Delinquency Prevention.

[FR Doc. 03-7208 Filed 3-25-03; 8:45 am]

BILLING CODE 4410-18-P